SMALL BUSINESS ADMINISTRATION

[Declaration of Disaster #10005]

State of Texas (TX-00001) (Amendment # 1)

The above numbered declaration is hereby amended to establish the incident period for this disaster as beginning November 15, 2004, and continuing through December 4, 2004. The declaration is also amended to include Gonzales County in the State of Texas as a primary disaster area due to damages caused by severe storms, excessive rain and flooding.

In addition, applications for economic injury loans from small businesses located in the contiguous counties of Bastrop, De Witt, Fayette, Karnes, and Lavaca in the State of Texas may be filed until the specified date at the previously designated location. All other counties contiguous to the above named primary counties have previously been declared.

All other information remains the same, i.e., the deadline for filing applications for physical damage is March 7, 2005 and for economic injury the deadline is October 4, 2005.

(Catalog of Federal Domestic Assistance Program Nos. 59002 and 59008).
Dated: January 6, 2005.
Hector V. Barreto,
Administrator.

[FR Doc. 05-857 Filed 1-13-05; 8:45 am]

BILLING CODE 8025-01-P